DEPARTMENT OF LABOR

Employment and Training Administration

[TA-W-72,151]

UPF, Inc. Flint, MI; Notice of Negative Determination Regarding Application for Reconsideration

By application dated April 7, 2010, the United Auto Workers, Local 599 (“Union”), requested administrative reconsideration of the Department's negative determination regarding eligibility to apply for Trade Adjustment Assistance (TAA), applicable to workers and former workers of the subject firm. The denial notice was signed on March 10, 2010, and will soon be published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination of the TAA petition filed on behalf of workers at UPF, Inc., Flint, Michigan, was based on the following findings: There was no increase in imports by the workers' firm or the customer of the subject firm of articles like or directly competitive with the truck chassis produced by the laid-off workers; there was no shift or acquisition by the workers' firm of articles like or directly competitive with the truck chassis produced by the laid-off workers; neither the workers' firm nor the customer of the subject firm imported articles like or directly competitive with articles into which the commercial truck chassis produced by the workers' firm was directly incorporated; and the workers did not produce an article that was used by a firm with TAA-certified workers in the production of an article that was the basis for the TAA-certification.

In the request for reconsideration, the Union representative stated that the workers of the subject firm should be eligible for TAA because:

General Motors, in 2008-2009, discontinued their commercial truck program * * * UPF was a supplier of truck chassis for the Chevrolet and GM commercial truck program. During General Motors bankruptcy, they decided to bring another truck to the Flint Truck Assembly Plant, the Chevrolet/GMC 900 half-ton extended cab pick-up. GM by-passed UPF for consideration for the truck frame for the 900 half-ton extended cab pick-up. GM went right Magna Cosma International in St. Thomas, Ontario, Canada.

The initial investigation had, in fact, already revealed that the General Motors Flint Truck Plant had discontinued the 560 line of commercial trucks for which the subject firm had been producing truck chassis, and that the Flint Truck Plant is now importing chassis for the 900 series residential trucks from an offshore producer. However, the chassis for the 900 line of residential trucks that are being imported are neither like nor directly competitive with the chassis formerly manufactured by the subject firm for the 560 line of commercial trucks.

The petitioner did not supply facts not previously considered, nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 23rd day of April, 2010.
Del Min Amy Chen,
Certifying Officer, Division of Trade Adjustment Assistance.

[FR Doc. 2010-10524 Filed 5-4-10; 8:45 am]

BILLING CODE 4510-FN-P